DEPARTMENT OF ENERGY

Federal Energy Regulatory Commission

Combined Notice of Filings #1

Take notice that the Commission received the following exempt wholesale generator filings:

Docket Numbers: EG12-63-000.

Applicants: Topaz Solar Farms LLC.

Description: Notice of Self-Certification of EWG Status of Topaz Solar Farms LLC.

Filed Date: 5/1/12.

Accession Number: 20120501-5254.

Comments Due: 5 p.m. ET 5/22/12.

Take notice that the Commission received the following electric rate filings:

Docket Numbers: ER12-718-001.

Applicants: New York Independent System Operator, Inc., PJM Interconnection, L.L.C.

Description: FID M2M Compliance 3-15-12 Order to be effective 1/15/2013.

Filed Date: 5/1/12.

Accession Number: 20120501-5368.

Comments Due: 5 p.m. ET 5/22/12.

Docket Numbers: ER12-1189-002.

Applicants: DeWind Novus, LLC.

Description: Notice of Non-Material Change in Status of DeWind Novus, LLC.

Filed Date: 5/1/12.

Accession Number: 20120501-5446.

Comments Due: 5 p.m. ET 5/22/12.

Docket Numbers: ER12-1502-001.

Applicants: Ironwood Windpower, LLC.

Description: Amended MBR Tariff to be effective 6/15/2012.

Filed Date: 5/1/12.

Accession Number: 20120501-5208.

Comments Due: 5 p.m. ET 5/22/12.

Docket Numbers: ER12-1504-001.

Applicants: Cimarron Windpower II, LLC.

Description: Supplement to MBR Filing to be effective N/A.

Filed Date: 5/1/12.

Accession Number: 20120501-5205.

Comments Due: 5 p.m. ET 5/22/12.

Docket Numbers: ER12-1684-000.

Applicants: International Transmission Company.

Description: Filing of a CIAC Agreement to be effective 5/2/2012.

Filed Date: 5/1/12.

Accession Number: 20120501-5245.

Comments Due: 5 p.m. ET 5/22/12.

Docket Numbers: ER12-1685-000.

Applicants: Golden Spread Electric Cooperative, Inc.

Description: Revised Wholesale Power Contracts Filing to be effective 5/1/2012.

Filed Date: 5/1/12.

Accession Number: 20120501-5259.

Comments Due: 5 p.m. ET 5/22/12.

Docket Numbers: ER12-1686-000.

Applicants: California Power Exchange Corporation.

Description: California Power Exchange FERC Rate Schedule No. 1 for Rate Period 21 to be effective 7/1/2012.

Filed Date: 5/1/12.

Accession Number: 20120501-5282.

Comments Due: 5 p.m. ET 5/22/12.

Docket Numbers: ER12-1687-000.

Applicants: International Transmission Company.

Description: Filing of Notice of Succession to be effective 7/1/2012.

Filed Date: 5/1/12.

Accession Number: 20120501-5319.

Comments Due: 5 p.m. ET 5/22/12.

Docket Numbers: ER12-1688-000.

Applicants: Appalachian Power Company.

Description: Buckeye PJM Services Agreement RS204 to be effective 6/1/2012.

Filed Date: 5/1/12.

Accession Number: 20120501-5345.

Comments Due: 5 p.m. ET 5/22/12.

Docket Numbers: ER12-1689-000.

Applicants: Ohio Power Company.

Description: Buckeye PJM Svcs Agr Concurrence RS201 to be effective 6/1/2012.

Filed Date: 5/1/12.

Accession Number: 20120501-5346.

Comments Due: 5 p.m. ET 5/22/12.

Docket Numbers: ER12-1690-000.

Applicants: Indiana Michigan Power Company.

Description: Buckeye PJM Svcs Agr Concurrence—RS202 to be effective 6/1/2012.

Filed Date: 5/1/12.

Accession Number: 20120501-5347.

Comments Due: 5 p.m. ET 5/22/12.

Docket Numbers: ER12-1691-000.

Applicants: Kentucky Power Company.

Description: Buckeye PJM Services Agr RS203—Concurrence to be effective 6/1/2012.

Filed Date: 5/1/12.

Accession Number: 20120501-5348.

Comments Due: 5 p.m. ET 5/22/12.

Docket Numbers: ER12-1692-000.

Applicants: Galaxy Energy, LLC.

Description: Galaxy Energy LLC Market Based Rate Tariff to be effective 6/4/2012.

Filed Date: 5/1/12.

Accession Number: 20120501-5349.

Comments Due: 5 p.m. ET 5/22/12.

Docket Numbers: ER12-1693-000.

Applicants: PJM Interconnection, L.L.C.

Description: Removal of Section 8 of OATT Att K Appendix & OA Schedule 1 re Order in ER12-718 to be effective 1/15/2013.

Filed Date: 5/1/12.

Accession Number: 20120501-5351.

Comments Due: 5 p.m. ET 5/22/12.

Docket Numbers: ER12-1694-000.

Applicants: Entergy Arkansas, Inc.

Description: Attachment K to be effective 7/9/2010 under ER12-1694 Filing Type: 80.

Filed Date: 5/1/12.

Accession Number: 20120501-5384.

Comments Due: 5 p.m. ET 5/22/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2012.
Nathaniel J. Davis, Sr.,
Deputy Secretary.

[FR Doc. 2012-11167 Filed 5-8-12; 8:45 am]

BILLING CODE 6717-01-P